DEPARTMENT OF LABOR

Employment and Training Administration

Notice of Determinations Regarding Eligibility To Apply for Worker Adjustment Assistance and NAFTA Transitional Adjustment Assistance

In accordance with section 223 of the Trade Act of 1974, as amended, the Department of Labor herein presents summaries of determinations regarding eligibility to apply for trade adjustment assistance for workers (TA-W) issued during the period of October, 2002.

In order for an affirmative determination to be made and a certification of eligibility to apply for worker adjustment assistance to be issued, each of the group eligibility requirements of section 222 of the Act must be met.

(1) That a significant number or proportion of the workers in the workers' firm, or an appropriate subdivision thereof, have become totally or partially separated,

(2) That sales or production, or both, of the firm or subdivision have decreased absolutely, and

(3) That increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-42,135; GB Machining, San Jose, CA

TA-W-42,164; Exide Technologies, GNB Industrial Power, Columbus, GA

TA-W-42,161; Loris Industries, LLC, Loris, SC

TA-W-41,986; Stan's Wood Products, Inc., Redmond, OR

TA-W-42,042; Plastic Products Co., Inc., Moline, IL

TA-W-42,085; Sterling Dula Architectural Products, Erie, PA

TA-W-42,086; Potlatch Corp., Bradley Hardwood Unit, Warren, AR

TA-W-40,108; American and Efird, Mt. Holly, NC, A; American Plant, Mt. Holly, NC B; Adrian Madora Plant, Mt. Holly, NC, C; Brentwood Depot, Brentwood, MO, D; Filament Plant, Mt. Holly, NC, E; Miami Depot, Miami, FL, F; Mt. Holly 15 Dyeing and Finishing Plant, Mt. Holly, NC, G; Rush Plant, Mt. Holly, NC, H; Gastonia Plant 1, Gastonia, NC, I; Gastonia Plant 20, Gastonia, NC, J; Gastonia Plant 56, Gastonia, NC, K; Gastonia 51 Dyeing and Finishing Plant, Gastonia, NC, L; Los Angeles Depot, Commerce, CA, M; Maiden Plant 11, Maiden, NC, N; Nashville Depot, Nashville TN, O; Nelson Plant 2, Lenoir, NC, P; Nelson Plant 12, Lenoir, NC, Q; New York Depot, Long Island, NY, R; Tupelo Depot, Tupelo, MS, S; Winder Depot, Winder, GA

In the following cases, the investigation revealed that the criteria for eligibility have not been met for the reasons specified.

Increased imports did not contribute importantly to worker separations at the firm.

TA-W-42,239; Aerovox, Inc., Huntsville Foil Div., Huntsville, AL

TA-W-40,003; HPM Corp., HPM Remanufacturing, Mount Gilead, OH

TA-W-41,735; MSC Pinole Point Steel, Inc., MSC Pre Finish Metals, Inc., Richmond, CA

TA-W-42,136; The Goodyear Tire and Rubber Co., Stow Mold Facility, Akron/Stow Complex, Akron, OH

TA-W-42,103; Kodak Polychrome Graphics LLC, Holyoke, MA

The workers firm does not produce an article as required for certification under section 222 of the Trade Act of 1974.

TA-W-42,080; Johnstown Knitting Mill, Inc., Johnstown, NY

TA-W-40,975; Converter Concepts, Inc., Pardeeville, WI

TA-W-42,243; Consolidated Freight Ways, Conway Transport, El Paso, TX

TA-W-41,732; APL Logistics, Thomson Consumer Electronics, Socorro, TX

TA-W-42,124; Norfolk Southern Railway Co., Hollidaysburg Car Shop, Hollidaysburg, PA

The investigation revealed that criteria (1) has not been met. A significant number or proportion of the workers did not become totally or partially separated from employment as required for certification.

TA-W-41,263A; CII/Tyco Electronics, Guttenberg, IA

The investigation revealed that criteria (1) and (3) have not been met. A significant number or proportion of the workers did not become totally or partially separated from employment as required for certification. Increased imports did not contribute importantly to worker separations at the firm.

TA-W-41,900; Tecumseh Products Co., Grafton Operations, Grafton, WI

The investigation revealed that criteria (2) has not been met. Sales or production did not decline during the relevant period as required for certification.

TA-W-42,057; N and E Refractories, Inc. d/b/a International Ceramic Welding, Demotte, IN

TA-W-41,996; Eagle Bridge Machine and Tool, Eagle Bridge, NY

Affirmative Determinations for Worker Adjustment Assistance

The following certifications have been issued; the date following the company name and location of each determination references the impact date for all workers of such determination.

TA-W-41,817; Arrow/SI, Inc., Asheboro, NC: July 2, 2001

TA-W-41,678; Merrimac Paper Co., Pepperell Paper Co., Pepperell, MA: May 28, 2001

TA-W-41,263; CII/Tyco Electronics, Sabula, IA: March 7, 2001

TA-W-38,935; Naturipe Berry Growers, Inc., Watsonville, CA: March 14, 2000

TA-W-41,991; Donna Karan Co., New York, NY: August 13, 2001

TA-W-41,989; Pinnacle Arts and Frames, Piggott, AR: July 31, 2001

TA-W-41,921; Packard Electric Systems, Div. of Delphi Automotive Systems, Gadsden, AL: July 24, 2001

TA-W-42,144; Toyo Tanso PA Graphite, Inc., Brookville, PA: August 28, 2001

TA-W-42,111; G-III Leather Fashions, New York, NY: August 30, 2001

TA-W-42,099; Agilent Technologies, Inc., Lake Stevens Site, Order Fulfillment Operation, Everett, WA: August 19, 2001

TA-W-42,015; Rhodia North America, Analgesics Plant, St. Louis, MO: August 19, 2001

TA-W-41,995; Reliant Manufacturing, Inc., Chesterfield, MI: August 12, 2001

TA-W-40,728; Milkan Group, Inc., New York, NY: December 5, 2000

TA-W-41,128; Illinois Tool Works, Jemco Engineering Div., Minooka, IL: February 1, 2001

TA-W-41,433; Intercraft Burnes, Statesville, NC: April 4, 2001

TA-W-41,712; Denim Processing, Inc., Oneida, TN: May 31, 2001

TA-W-41,816; Wisconsin Color Press, Milwaukee, WI: June 20, 2001

TA-W-41,820; General Cable Corp., Outside Voice and Data Telecommunications Div., Bonham, TX: June 24, 2001

TA-W-41,907; Klaussner Furniture Industries, Inc., Plant 1, Asheboro, NC, A; Plant 3, Asheboro, NC, B; Plant 5, Asheboro, NC, C; Plant 7, Asheboro, NC, D; Plant 8, Asheboro, NC, E; Plants 9 and 98, Asheboro, NC, F; Plant 15, Asheboro, NC, G; Plant 20, Asheboro, NC, H; Plant 75, Asheboro, NC, I; Plants 91 and 95, Asheboro, NC, J; Plant 99, Asheboro, NC, K; Plant 27, Star, NC, L; Plants 88 and 89, Candor, NC, M; Plants 83 and 17, Robbins, NC: July 12, 2001

TA-W-41,954; Leather Center, Carrollton, TX: July 29, 2001

TA-W-42,005 &A; Sanmina-SCI Corp., Derry, NH and Hudson, NH: August 7, 2001

TA-W-42,063; Acco Chain and Lifting Products, a Div. of FKI Industries, Inc., Owned by FKI PLC, York, PA: August 15, 2001

TA-W-42,117; Superior Essex, Communications Group, Tarboro, NC: August 28, 2001

TA-W-42,147; Universal Manufacturing, Zelienople, PA: August 29, 2001

TA-W-42,246; Radiall/Larsen Antenna Technologies, a Wholly Owned Subsidiary of Radiall, Inc., a Wholly Owned Subsidiary of Radiall, S.A., Vancouver, WA: September 23, 2001

Also, pursuant to Title V of the North American Free Trade Agreement Implementation Act (P.L. 103-182) concerning transitional adjustment assistance hereinafter called (NAFTA-TAA) and in accordance with section 250(a), Subchapter D, Chapter 2, Title II, of the Trade Act as amended, the Department of Labor presents summaries of determinations regarding eligibility to apply for NAFTA-TAA issued during the months of October, 2002.

In order for an affirmative determination to be made and a certification of eligibility to apply for NAFTA-TAA the following group eligibility requirements of section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely,

(3) That imports from Mexico or Canada of articles like or directly competitive with articles produced by such firm or subdivision have increased, and that the increases imports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-05325; HPM Corp., HPM Remanufacturing, Mount Gilead, OH

NAFTA-TAA-05947; Limited Edition Shirt Co., Inc., Ranshaw, PA

NAFTA-TAA-06261; Merricac Paper Co., Pepperell Paper Co., Pepperell, MA

NAFTA-TAA-06523; Northern Engraving Corp., Holmen Div., Holmen, WI

NAFTA-TAA-07560; Toyo Tanso PA Graphite, Inc., Brookville, PA

NAFTA-TAA-06477; Stan's Wood Products, Inc., Redmond, OR

NAFTA-TAA-06230; Premier Machining Industries, LLC, Concord, NC

NAFTA-TAA-06320; MSC Pinole Point Steel, Inc., MSC Pre Finish Metals, Inc., Richmond, CA

NAFTA-TAA-06357; Tecumseh Products Co., Grafton Operations, Grafton, WI

NAFTA-TAA-05897; Illinois Tool Works, Jemco Engineering Div., Minooka, IL “All workers engaged in employment related to the production of lamps are denied eligibility to apply for NAFTA-TAA under Section 250 of the Trade Act of 1974.”

NAFTA-TAA-06424; Potlatch Corp., Bradley Hardwood Unit, Warren, AR

NAFTA-TAA-06532; Sappi Cloquet, LLC, Formerly Potlatch Corp., Cloquet, MN

NAFTA-TAA-07549; Exide Technologies, GNB Industrial Power, Columbus, GA

The investigation revealed that the criteria for eligibility have not been met for the reasons specified.

The investigation revealed that workers of the subject firm did not produce an article within the meaning of section 250(a) of the Trade Act, as amended.

NAFTA-TAA-07605; Consolidated Freight Ways, Conway Transport, El Paso, TX

NAFTA-TAA-06518; Johnstown Knitting Mill, Inc., Johnstown, NY

The investigation revealed that criterion (1) has not been met. A significant number or proportion of the workers in such workers' firm or an appropriate subdivision (including workers in any agricultural firm or appropriate subdivision thereof) did not become totally or partially separated from employment as required for certification.

NAFTA-TAA-06612; Permit # 56865U, Dillingham, AK

NAFTA-TAA-06609; Permit # 56780U, Dillingham, AK

The investigation revealed that criterion (2) has not been met. Sales or production did not decline during the relevant period as required for certification.

NAFTA-TAA-06497; N and E Refractories, Inc., d/b/a International Ceramic Welding, Demotte, IN

AFFIRMATIVE DETERMINATIONS NAFTA-TAA

NAFTA-TAA-05897; Illinois Tool Works, Jemco Engineering Div., Minooka, IL “All workers engaged in employment related to the assembly of indicator lights and switches who became totally or partially separated from employment on or after February 4, 2001”

NAFTA-TAA-04720; Naturipe Berry Growers, Inc., Watsonville, CA: March 22, 2000

NAFTA-TAA-06143; 3M Center, Coated Abrasives and Industrial Tape Div., St. Paul, MN: April 22, 2001

NAFTA-TAA-06467; Reliant Manufacturing, Inc., Chesterfield, MI: August 12, 2001

NAFTA-TAA-07550; Volex, Inc., Power Cord Div., Clinton, AR: September 6, 2001

NAFTA-TAA-06716; Permit # 57746H, Dillingham, AK: September 3, 2001

NAFTA-TAA-06317; General Cable Corp., Outside Voice and Date Telecommunications Div., Bonham, TX: June 24, 2001

NAFTA-TAA-06344; Wisconsin Color Press, Milwaukee, WI: July 2, 2001

NAFTA-TAA-06254; Denim Processing, Inc., Oneida, TN: May 31, 2001

NAFTA-TAA-06380; Klaussner Furniture Industries, Inc., Plant 1, Asheboro, NC, A; Plant 3, Asheboro, NC, B; Plant 5, Asheboro, NC, C; Plant 7, Asheboro, NC, D; Plant 8, Asheboro, NC, E; Plants 9 and 98, Asheboro, NC, F; Plant 15, Asheboro, NC, G; Plant 20, Asheboro, NC, H; Plant 75, Asheboro, NC, I; Plants 91 and 95, Asheboro, NC, J; Plant 99, Asheboro, NC, K; Plant 27, Star, NC, L; Plants 88, 89, Candor, NC, M; Plants 83 and 17, Robbins, NC: July 12, 2001

I hereby certify that the aforementioned determinations were issued during the months of October, 2002. Copies of these determinations are available for inspection in Room C-5311, U.S. Department of Labor, 200 Constitution Avenue, NW., Washington, DC 20210 during normal business hours or will be mailed to persons who write to the above address.

Dated: October 25, 2002.
Edward A. Tomchick,
Director, Division of Trade Adjustment Assistance.

[FR Doc. 02-28034 Filed 11-4-02; 8:45 am]

BILLING CODE 4510-30-P